FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 017753N.

Name: Associated Consolidators Express.

Address: 1273 Industrial Parkway, Unit 290, Hayward, CA 94544.

Date Revoked: April 7, 2005.

Reason: Failed to maintain a valid bond.

License Number: 004471F.

Name: B.R.A.L. Miami, Inc.

Address: 6120 NW 74th Avenue, Miami, FL 33166.

Date Revoked: April 17, 2005.

Reason: Failed to maintain a valid bond.

License Number: 014151N.

Name: Continental Consolidating Corp.

Address: 8507 NW., 72nd Street, Miami, FL 33166.

Date Revoked: April 20, 2005.

Reason: Failed to maintain a valid bond.

License Number: 016584N.

Name: Midwest Freight, Inc.

Address: 7956 Clyo Road, Dayton, OH 45459.

Date Revoked: March 12, 2005.

Reason: Failed to maintain a valid bond.

License Number: 003092F.

Name: Mirella Garcia dba DMM Overseas.

Address: 10317 SW., 24th Street, Suite 104, Miami, FL 33165.

Date Revoked: May 1, 2005.

Reason: Surrender license voluntarily.

License Number: 013015N.

Name: Professional Cargo Services International, Inc.

Address: 1550 Wallace Avenue, San Francisco, CA 94124.

Date Revoked: April 14, 2005.

Reason: Failed to maintain a valid bond.

License Number: 001169F.

Name: R & F Rolapp Enterprises, Inc.

Address: 15500 S. Main Street, Gardena, CA 90248.

Date Revoked: April 17, 2005.

Reason: Failed to maintain a valid bond.

License Number: 011170N.

Name: Sage Freight Systems Inc. dba Sage Container Lines.

Address: 182-30 150th Road, Suite 108, Jamaica, NY 11413.

Date Revoked: April 8, 2005.

Reason: Failed to maintain a valid bond.

License Number: 017739N.

Name: Sun Ocean Express Co., LLC.

Address: 5250 W. Century Blvd., Suite 314, Los Angeles, CA 90045.

Date Revoked: April 13, 2005.

Reason: Failed to maintain a valid bond.

Sandra L. Kusumoto,
Director, Bureau of Certification and Licensing.

[FR Doc. 05-8888 Filed 5-3-05; 8:45 am]

BILLING CODE 6730-01-P